DEPARTMENT OF HEALTH AND HUMAN SERVICES

National Institutes of Health

National Human Genome Research Institute; Amended Notice of Meeting

Notice is hereby given of a change in the meeting of the National Advisory Council for Human Genome Research, June 18, 2025, 01:00 p.m. to June 19, 2025, 04:00 p.m., National Institutes of Health, 6700B Rockledge Drive, Bethesda, MD 20892 which was published in the Federal Register on April 30, 2025, 90 FR 17940.

The meeting is amended to change the meeting from a two-day meeting on June 18, 2025, 01:00 p.m. through June 19, 2025, 04:00 p.m., to a one-day meeting that will be held on June 18, 2025, from 12:00 p.m. to 04:00 p.m. The meeting will also change from a closed virtual meeting to an open meeting that will be held in person and virtually. To attend the meeting virtually you can use the following link: https://www.genome.gov/about-nhgri/Institute-Advisors/National-Advisory-Council-for-Human-Genome-Research.

Dated: May 30, 2025.
David W. Freeman,
Supervisory Program Analyst, Office of Federal Advisory Committee Policy.

[FR Doc. 2025-10201 Filed 6-4-25; 8:45 am]

BILLING CODE 4140-01-P